SECURITIES AND EXCHANGE COMMISSION

Sunshine Act Meeting Federal Register Citation of Previous Announcement: [To Be Published]

Status: Open Meeting.

PLACE: 100 F Street, NE., Washington, DC.

Date and Time of Previously Announced Meeting: Wednesday, September 21, 2005.

Change in the Meeting: Additional item.

The following item has been added to the Open Meeting scheduled for Wednesday, September 21, 2005:

In addition, the Commission will consider whether to propose interpretive guidance and solicit comment regarding the scope of “brokerage and research services” within Section 28(e) of the Securities Exchange Act of 1934. The interpretive release is designed to provide guidance to securities industry participants on money managers' use of client commission dollars to pay for research and brokerage services under Section 28(e). The release also reminds industry participants of the statutory requirements for client commission arrangements under Section 28(e).

For further information, please contact Jo Anne Swindler, Assistant Director, at (202) 551-5750; Patrick M. Joyce, Special Counsel, at (202) 551-5758; Stanley C. Macel, IV, Special Counsel, at (202) 551-5755; or Marlon Quintanilla Paz, Special Counsel, at (202) 551-5756, at the Office of Enforcement Liaison and Institutional Trading, Division of Market Regulation.

Commissioner Glassman, as duty officer, determined that Commission business required the above change and that no earlier notice thereof was possible.

At times, changes in Commission priorities require alterations in the scheduling of meeting items. For further information and to ascertain what, if any, matters have been added, deleted or postponed, please contact the Office of the Secretary at (202) 551-5400.

Dated: September 15, 2005.
Jonathan G. Katz,
Secretary.

[FR Doc. 05-18816 Filed 9-16-05; 12:04 pm]

BILLING CODE 8010-01-P